DEPARTMENT OF THE INTERIOR

National Park Service

[NPS-WASO-NAGPRA-NPS0033556; PPWOCRADN0-PCU00RP14.R50000]

Notice of Inventory Completion: U.S. Department of Agriculture, Forest Service, Shasta Trinity National Forest, Redding, CA

AGENCY: National Park Service, Interior.

ACTION: Notice.

SUMMARY: The U.S. Department of Agriculture, Forest Service, Shasta Trinity National Forest (USDA Shasta Trinity National Forest) has completed an inventory of human remains in consultation with the appropriate Indian Tribes, and has determined that there is a cultural affiliation between the human remains and present-day Indian Tribes or organizations. Lineal descendants or representatives of any Indian Tribe or Native Hawaiian organization not identified in this notice that wish to request transfer of control of these human remains should submit a written request to the USDA Shasta Trinity National Forest. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the USDA Shasta Trinity National Forest at the address in this notice by April 18, 2022.

FOR FURTHER INFORMATION CONTACT: Rachel A. Birkey, Forest Supervisor, Shasta Trinity National Forest, 3644 Avtech Parkway, Redding, CA 96002, telephone (530) 226-2500, email rachel.birkey@usda.gov or Matthew Padilla, Shasta-Trinity National Forest Headquarters, 3644 Avtech Parkway, Redding, CA 96002, telephone (530) 921-3335, email matthew.j.padilla@usda.gov.

SUPPLEMENTARY INFORMATION: Notice is here given in accordance with the Native American Graves Protection and Repatriation Act (NAGPRA), 25 U.S.C. 3003, of the completion of an inventory of human remains under the control of the U.S. Department of Agriculture, Forest Service, Shasta Trinity National Forest, Redding, CA. The human remains were removed from Shasta County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the USDA Shasta Trinity National Forest professional staff in consultation with representatives of the Redding Rancheria, California.

History and Description of the Remains

In 1964, human remains representing, at minimum, one individual were removed from a cave in Shasta County, CA. The artifacts were discovered in back dirt that had been excavated from a trench in 1904. The human remains were stored at an unknown location until 2015, at which time they were returned to the Forest Service by California State University-Sacramento (CSUS) in a bag labeled “CA-SHA-48, Cave, 81-CSUS-121.02.” In 2016, the Forest Service archeologist was notified that the human remains were under Forest Service control. The human remains are currently located at the University of California-Davis. No known individual was identified. No associated funerary objects are present.

Collection records indicate that site CA-SHA-49 was occupied primarily between 1,700 and 2,000 years ago, as evidenced by three radiocarbon dates obtained in 1974 (this radiocarbon dating was not determined from an analysis of human remains).

Determinations Made by the U.S. Department of Agriculture, Forest Service, Shasta Trinity National Forest

Officials of the U.S. Department of Agriculture, Forest Service, Shasta Trinity National Forest have determined that:

• Pursuant to 25 U.S.C. 3001(9), the human remains described in this notice represent the physical remains of one individual of Native American ancestry.

• Pursuant to 25 U.S.C. 3001(2), there is a relationship of shared group identity that can be reasonably traced between the Native American human remains and the Redding Rancheria, California.

Additional Requestors and Disposition

Lineal descendants or representatives of any Indian Tribe or Native Hawaiian organization not identified in this notice that wish to request transfer of control of these human remains should submit a written request with information in support of the request to Rachel A. Birkey, Forest Supervisor, Shasta Trinity National Forest, 3644 Avtech Parkway, Redding, CA 96002, telephone (530) 226-2500, email rachel.birkey@usda.gov or Matthew Padilla, Shasta-Trinity National Forest Headquarters, 3644 Avtech Parkway, Redding, CA 96002, telephone (530) 921-3335, email matthew.j.padilla@usda.gov, by April 18, 2022. After that date, if no additional requestors have come forward, transfer of control of the human remains to the Redding Rancheria, California may proceed.

The U.S. Department of Agriculture, Forest Service, Shasta Trinity National Forest is responsible for notifying the Redding Rancheria, California that this notice has been published.

Dated: March 9, 2022.
Melanie O'Brien,
Manager, National NAGPRA Program.

[FR Doc. 2022-05626 Filed 3-16-22; 8:45 am]

BILLING CODE 4312-52-P